NATIONAL AERONAUTICS AND SPACE ADMINISTRATION

[Notice (01-066)]

NASA Advisory Council; Meeting

AGENCY: National Aeronautics and Space Administration.

ACTION: Notice of meeting.

SUMMARY: In accordance with the Federal Advisory Committee Act, Pub. L. 92-463, as amended, the National Aeronautics and Space Administration announces a meeting of the NASA Advisory Council.

DATES: Thursday, June 28, 2001, 8 a.m. to 1 p.m.; and Friday, June 29, 2001, 8:15 a.m. to 2 p.m.

ADDRESSES: National Aeronautics and Space Administration, Room 9H40, 300 E Street, SW., Washington, DC 20546.

FOR FURTHER INFORMATION CONTACT: Ms. Kathy Dakon, Code Z, National Aeronautics and Space Administration, Washington, DC 20546, 202/358-0732.

SUPPLEMENTARY INFORMATION: The meeting will be closed to the public on Thursday, June 28, 2001, from 1 p.m. to 5 p.m. in accordance with 5 U.S.C. 552b(c)9(B), to hear briefings on the FY 2003 Performance Plan. Friday, June 29, 2001, will be open to the public up to the seating capacity of the room. The agenda for the meeting is as follows:

• OMB Perspectives on Budget

• Space Launch Initiative Update

• Space Station Update

• Committee/TaskForce/Working Group Reports

• Discussion of Findings and Recommendations

It is imperative that the meeting be held on these dates to accommodate the scheduling priorities of the key participants. Visitors will be requested to sign a visitor's register.

Dated: June 1, 2001.
Beth M. McCormick,
Advisory Committee Management Officer, National Aeronautics and Space Administration.

[FR Doc. 01-14283 Filed 6-5-01; 8:45 am]

BILLING CODE 7510-01-P